DEPARTMENT OF HEALTH AND HUMAN SERVICES

Centers for Disease Control and Prevention

[Program Announcement 04090]

Increasing Influenza Vaccination of Long Term Care Facility Staff; Notice of Availability of Funds Amendment

A notice announcing the availability of fiscal year (FY) 2004 funds for cooperative agreements for immunization projects was published in the Federal Register March 30, 2004, Volume 69, Number 61, pages 16564-16568. The notice is amended as follows:

Page 16564, second column, and page 16566, second column, change Letter of Intent (LOI) Deadline to May 7, 2004.

Page 16565, second column, section III.1. Eligible Applicants, add “State governments” to the bulleted list.

Dated: April 29, 2004.
William P. Nichols,
Acting Director, Procurement and Grants Office, Centers for Disease Control and Prevention.

[FR Doc. 04-10171 Filed 5-4-04; 8:45 am]

BILLING CODE 4163-18-P